DEPARTMENT OF THE INTERIOR

Fish and Wildlife Service

Endangered and Threatened Wildlife and Plants; Initiation of 5-Year Reviews of 56 Species in California and Nevada; Correction

AGENCY: Fish and Wildlife Service, Interior.

ACTION: Notice of review; correction.

SUMMARY: We, the U.S. Fish and Wildlife Service, announce corrections to our notice of review that published in the Federal Register on March 22, 2006, concerning initiation of 5-year reviews for 56 species in California and Nevada. The document contained the incorrect zip code for the Carlsbad Fish and Wildlife Office and two ambiguous tables indicating to which offices information for particular species should be submitted. The correct zip code for the Carlsbad Fish and Wildlife Office is 92011, and we are reprinting the address and contact information from the two tables.

DATES: We must receive your information no later than May 22, 2006. However, we will continue to accept new information about any listed species at any time.

SUPPLEMENTARY INFORMATION: In the Federal Register of March 22, 2006, FR Doc E6-4120 (71 FR 14538), a document titled “Endangered and Threatened Wildlife and Plants; Initiation of 5-Year Reviews of 56 Species in California and Nevada” appeared with an incorrect zipcode and unclear tables.

Corrections

In the Federal Register of March 22, 2006, on page 14540, on the fourth line of the third column, change “in Table 2.” to “below.”

On pages 14540 through 14542, replace Tables 2 and 3 with the following text:

The species under review and the addresses to submit information for each are as follows:

For the Laguna Mountains skipper butterfly, Riverside fairy shrimp, San Diego fairy shrimp, Catalina Island mountain mahogany, Coachella Valley milk-vetch, Munz's onion, Orcutt's spineflower, Otay tarplant, San Jacinto Valley crownscale, slender-horned spineflower, spreading navarretia, thread-leaved brodiaea, and willowy monardella, submit comments to the following address: Field Supervisor, Attention: 5-Year Review, U.S. Fish and Wildlife Service, Carlsbad Fish and Wildlife Office, 6010 Hidden Valley Road, Carlsbad, CA 92011. Information may be submitted electronically at fw85yr06@fws.gov. For information concerning these species, contact Jim Bartel at (760) 431-9440.

For the Inyo California towhee, tidewater goby, Ben Lomond spineflower, Chorro Creek bog thistle, Hoffmann's rock-cress, Indian knob mountain balm, Lane Mountain milk-vetch, Menzies' wallflower, Monterey gilia, Morro manzanita, Pismo clarkia, Santa Cruz Island bush-mallow, Santa Rosa Island manzanita, and soft-leaved paintbrush, submit comments to the following address: Field Supervisor, Attention: 5-Year Review, U.S. Fish and Wildlife Service, Ventura Fish and Wildlife Office, 2493 Portola Road, Suite B, Ventura, CA 93003. Information may be submitted electronically at fw1vfwo5year@fws.gov. For information concerning the Inyo California towhee and tidewater goby, contact Mike McCrary at (805) 644-1766. For information concerning the plant species, contact Connie Rutherford at (805) 644-1766.

For the blunt-nosed leopard lizard, California freshwater shrimp, conservancy fairy shrimp, delta green ground beetle, Fresno kangaroo rat, giant kangaroo rat, Kern primrose sphinx moth, longhorn fairy shrimp, San Joaquin kit fox, vernal pool fairy shrimp, vernal pool tadpole shrimp, Bakersfield cactus, Butte County meadowfoam, California jewelflower, Colusa grass, hairy Orcutt grass, Kern mallow, Sacramento Orcutt grass, showy indian clover, and slender Orcutt grass, submit comments to the following address: Field Supervisor, Attention: 5-Year Review, U.S. Fish and Wildlife Service, Sacramento Fish and Wildlife Office, 2800 Cottage Way, Room W-2605, Sacramento, CA 95825. Information may be submitted electronically at fw1sfo5year@fws.gov. For information concerning these species, contact Craig Aubrey at (916) 414-6600.

For the Ash Meadows Amargosa pupfish, Desert dace, Pahrump poolfish, Paiute cutthroat trout, White River spinedace, and steamboat buckwheat, submit comments to the following address: Field Supervisor, Attention: 5-Year Review, U.S. Fish and Wildlife Service, Nevada Fish and Wildlife Office, 1340 Financial Blvd., Suite 234, Reno, NV 89502. Information may also be submitted electronically at fw1nfwo_5yr@fws.gov. For information concerning these species, contact Jody Brown at (775) 861-6300.

For the Behren's silverspot butterfly and Howell's spineflower, submit comments to the following address: Field Supervisor, Attention: 5-Year Review, U.S. Fish and Wildlife Service, Arcata Fish and Wildlife Office, 11655 Heindon Road, Arcata, CA 95521. Information may be submitted electronically at howellsspineflower@fws.gov for Howell's spineflower and behrenssilverspot@fws.gov for Behren's silverspot butterfly. For information concerning Howell's spineflower, contact Dave Imper at the Arcata Fish and Wildlife Office at (707) 822-7201. For information concerning Behren's silverspot butterfly, contact Jim Watkins at the Arcata Fish and Wildlife Office at (707) 822-7201.

For the Modoc sucker, submit comments to the following address: Field Supervisor, Attention: 5-Year Review, U.S. Fish and Wildlife Service, Klamath Falls Fish and Wildlife Office, 6610 Washburn Way, Klamath Falls, OR 97603. Information may also be submitted electronically at kfalls@fws.gov. For information concerning the Modoc sucker, contact Ron Larson at the Klamath Falls Fish and Wildlife Office at (541) 885-8481.

Dated: March 29, 2006.
Ken McDermond,
Acting Manager, California/Nevada Operations Office, U.S. Fish and Wildlife Service.

[FR Doc. 06-3195 Filed 3-31-06; 8:45 am]

BILLING CODE 4310-55-P